SECURITIES AND EXCHANGE COMMISSION

[Release No. IC-26090]

Notice of Applications for Deregistration Under Section 8(f) of the Investment Company Act of 1940

June 27, 2003.

The following is a notice of applications for deregistration under section 8(f) of the Investment Company Act of 1940 for the month of June, 2003. A copy of each application may be obtained for a fee at the SEC's Public Reference Branch, 450 Fifth St., NW., Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on July 24, 2003, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW., Washington, DC 20549-0609. For Further Information Contact: Diane L. Titus at (202) 942-0564, SEC, Division of Investment Management, Office of Investment Company Regulation, 450 Fifth Street, NW., Washington, DC 20549-0506.

All-American Term Trust Inc. [File No. 811-7352]

Summary: Applicant, a closed-end investment company, seeks an order declaring that it has ceased to be an investment company. On December 30, 2002, applicant made a liquidating distribution to its shareholders, based on net asset value. As of March 31, 2003, applicant had 74 shareholders who had not been located. Unclaimed assets have been placed with applicant's transfer agent, and will be held for three years, after which any unclaimed assets will be surrendered to the State of Maryland. Expenses of $15,300 incurred in connection with the liquidation will be paid by applicant.

Filing Date: The application was filed on June 12, 2003.

Applicant's Address: c/o CSC Lawyers Incorporating Service Company, 11 East Chase St., Baltimore, MD 21202.

Merrill Lynch Spectrum Fund, Inc. (Formerly Merrill Lynch Large Cap Spectrum Fund, Inc.) [File No. 811-10469]

Summary: Applicant seeks an order declaring that it has ceased to be an investment company. Applicant has never made a public offering of its securities and does not propose to make a public offering or engage in business of any kind.

Filing Date: The application was filed on June 13, 2003.

Applicant's Address: 800 Scudders Mill Rd., Plainsboro, NJ 08536.

The Korean Investment Fund, Inc. [File No. 811-6467]

Summary: Applicant seeks an order declaring that it has ceased to be an investment company. On June 6, 2003, applicant made a liquidating distribution to its shareholders, based on net asset value. Expenses of $59,400 incurred in connection with the liquidation were paid by applicant.

Filing Date: The application was filed on June 11, 2003.

Applicant's Address: 1345 Avenue of the Americas, New York, NY 10105.

Millennium Funds, Inc. [File No. 811-8729]

Summary: Applicant seeks an order declaring that it has ceased to be an investment company. On May 23, 2003, applicant made a liquidating distribution to its shareholders, based on net asset value. Expenses of $50,974 incurred in connection with the liquidation were paid by applicant.

Filing Date: The application was filed on June 11, 2003.

Applicant's Address: 8869 Brecksville Rd., Suite C, Brecksville, OH 44141.

Pioneer Science & Technology Fund [File No. 811-9785]

Summary: Applicant seeks an order declaring that it has ceased to be an investment company. On January 10, 2003, applicant made a liquidating distribution to its shareholders, based on net asset value. Expenses of $14,311 incurred in connection with the liquidation were paid by Pioneer Investment Management, Inc., applicant's investment adviser.

Filing Date: The application was filed on June 12, 2003.

Applicant's Address: 60 State St., Boston, MA 02109.

Templeton Emerging Markets Appreciation Fund, Inc. [File No. 811-8362] Templeton Vietnam and Southeast Asia Fund, Inc. [File No. 811-8632]

Summary: Each applicant, a closed-end investment company, seeks an order declaring that it has ceased to be an investment company. On September 26, 2002, each applicant transferred its assets to Templeton Developing Markets Trust, based on net asset value. Expenses of $194,042 and $306,464, respectively, incurred in connection with the reorganizations were paid by applicants, the acquiring fund and their respective investment advisers.

Filing Date: The applications were filed on June 5, 2003.

Applicants' Address: 500 East Broward Blvd., Suite 2100, Fort Lauderdale, FL 33394-3091.

Templeton Global Government Income Trust [File No. 811-5677]

Summary: Applicant, a closed-end investment company, seeks an order declaring that it has ceased to be an investment company. On August 30, 2002, applicant transferred its assets to Templeton Global Income Fund, Inc., based on net asset value. Expenses of $389,190 incurred in connection with the reorganization were paid by applicant, the acquiring fund and their respective investment advisers.

Filing Date: The application was filed on June 5, 2003.

Applicants' Address: 500 East Broward Blvd., Suite 2100, Fort Lauderdale, FL 33394-3091.

ETF Advisors Trust [File No. 811-21115]

Summary: Applicant seeks an order declaring that it has ceased to be an investment company. On May 30, 2003, applicant made a liquidating distribution to its shareholders, based on net asset value. Expenses of approximately $4,000 incurred in connection with the liquidation were paid by ETF Advisors, LP, applicant's investment adviser.

Filing Date: The application was filed on June 5, 2003.

Applicant's Address: 153 E. 53rd St., New York, NY 10022.

Credit Suisse European Equity Fund, Inc. [File No. 811-8903]

Summary: Applicant seeks an order declaring that it has ceased to be an investment company. On April 25, 2003, applicant transferred its assets to Credit Suisse International Focus Fund, Inc., based on net asset value. Expenses of $135,000 incurred in connection with the reorganization were paid by Credit Suisse Asset Management, LLC, applicant's investment adviser, and/or its affiliates.

Filing Date: The application was filed on May 30, 2003.

Applicant's Address: 466 Lexington Ave., New York, NY 10017.

Mercury Small Cap Value Fund, Inc. [File No. 811-9955] Mercury U.S. High Yield Fund, Inc. [File No. 811-9981]

Summary: Each applicant seeks an order declaring that it has ceased to be an investment company. On March 24, 2003, applicants transferred their assets to Merrill Lynch Small Cap Value Fund, Inc. and Merrill Lynch U.S. High Yield Fund, Inc., respectively, based on net asset value. Expenses of $190,955 and $186,365, respectively, incurred in connection with the reorganizations were paid by Merrill Lynch Investment Managers, Inc.

Filing Date: The applications were filed on May 23, 2003.

Applicants' Address: 800 Scudders Mill Rd., Plainsboro, NJ 08536.

Berger Growth Fund, Inc. [File No. 811-1382]

Berger Large Cap Growth Fund, Inc. [File No. 811-1383] Berger Omni Investment Trust [File No. 811-4273]

Summary: Each applicant seeks an order declaring that it has ceased to be an investment company. On April 21, 2003, each applicant transferred its assets to Janus Investment Fund, based on net asset value. Expenses of $928,863, $250,296, and $1,698,340, respectively, were incurred in connection with the reorganizations and were paid by Janus Capital Management LLC and Berger Financial Group LLC, applicants' investment advisers.

Filing Date: The applications were filed on May 28, 2003.

Applicants' Address: 210 University Blvd., Suite 800, Denver, CO 80206.

Berger Investment Portfolio Trust [File No. 811-8046]

Summary: Applicant seeks an order declaring that it has ceased to be an investment company. On April 21, 2003, applicant transferred its assets to Janus Investment Fund and Janus Adviser Series, based on net asset value. Expenses of $1,430,479 incurred in connection with the reorganization were paid by Janus Capital Management LLC and Berger Financial Group LLC, investment advisers to applicant.

Filing Date: The application was filed on May 28, 2003.

Applicant's Address: 210 University Blvd., Suite 800, Denver, CO 80206.

Berger Worldwide Funds Trust [File No. 811-7669]

Summary: Applicant, a feeder fund in a master-feeder structure, seeks an order declaring that it has ceased to be an investment company. On April 21, 2003, applicant made a liquidating distribution to its shareholders, based on net asset value. Expenses of $19,569 incurred in connection with the liquidation were paid by Janus Capital Management LLC and Berger Financial Group LLC.

Filing Date: The application was filed on May 28, 2003.

Applicant's Address: 2l0 University Blvd., Suite 800, Denver, CO 80206.

Berger Worldwide Portfolio Trust [File No. 811-7667]

Summary: Applicant, a master trust in a master-feeder structure, seeks an order declaring that it has ceased to be an investment company. On April 21, 2003, applicant made a liquidating distribution to its feeder funds, based on net asset value. Expenses of $24,151 incurred in connection with the liquidation were paid by Janus Capital Management LLC and Berger Financial Group LLC.

Filing Date The application was filed on May 28, 2003.

Applicant's Address: 210 University Blvd., Suite 800, Denver, CO 80206.

2002 Target Term Trust Inc. [File No. 811-7286]

Summary: Applicant, a closed-end investment company, seeks an order declaring that it has ceased to be an investment company. On November 29, 2002, applicant made a liquidating distribution to its shareholders, based on net asset value. Applicant has placed the unclaimed assets of its 46 remaining shareholders with PFPC, applicant's transfer agent. Any unclaimed assets remaining at the end of three years will be surrendered to the State of Maryland. Expenses of $10,350 incurred in connection with the liquidation were paid by applicant.

Filing Dates: The application was filed on April 11, 2003, and amended on June 12, 2003.

Applicant's Address: c/o CSC Lawyers Incorporating Service Company, 11 East Chase St., Baltimore, MD 21202.

BBH International Equity Portfolio [File No. 811-8996], BBH Pacific Basin Equity Portfolio [File No. 811-9659], BBH European Equity Portfolio [File No. 811-9661], BBH U.S. Equity Portfolio [File No. 811-9663], BBH High Yield Fixed Income Portfolio [File No. 811-9971], BBH Broad Market Fixed Income Portfolio [File No. 811-9969]

Summary: Each applicant seeks an order declaring that it has ceased to be an investment company. By April 1, 2003, each applicant's shareholders had redeemed their shares, based on net asset value. Applicants incurred no expenses in connection with the liquidations.

Filing Dates: The applications were filed on May 20, 2003, and amended on June 6, 2003.

Applicants' Address: Brown Brothers Harriman, 40 Water St., Boston, MA 02109.

Corporate High Yield Fund II, Inc. [File No. 811-7103], Corporate High Yield Fund IV, Inc. [File No. 811-10313]

Summary: Each applicant, a closed-end investment company, seeks an order declaring that it has ceased to be an investment company. On May 5, 2003, applicants transferred their assets to Corporate High Yield Fund, Inc. and Corporate High Yield Fund V, Inc., respectively, based on net asset value. Expenses of $280,850 and $326,599, respectively, incurred in connection with the reorganizations were paid by each applicant's acquiring fund.

Filing Date: The applications were filed on June 4, 2003.

Applicant's Address: Merrill Lynch Investment Managers, L.P., 800 Scudders Mill Rd., Plainsboro, NJ 08536.

Voyageur Funds [File No. 811-5267]

Summary: Applicant seeks an order declaring that it has ceased to be an investment company. On August 24, 2001, applicant transferred its assets to Delaware Group Government Fund “ Delaware American Bond Fund, based on net asset value. Expenses of $44,658 incurred in connection with the reorganization were paid by applicant, the acquiring fund, Delaware Distributors, L.P., applicant's principal underwriter, and Delaware Management Company, applicant's manager.

Filing Dates: The application was filed on January 8, 2003, and amended on February 11, 2003, March 25, 2003, June 2, 2003, and June 18, 2003.

Applicant's Address: Delaware Investments, 2005 Market St., Philadelphia, PA 19130.

Mercury QA Equity Series, Inc. [File No. 811-9611]

Summary: Applicant seeks an order declaring that it has ceased to be an investment company. On March 28, 2002, applicant made a liquidating distribution to its shareholders, based on net asset value. Applicant has retained assets in the amount of $18,407 to cover its outstanding liabilities. Expenses of $67,513 incurred in connection with the liquidation were paid by applicant.

Filing Dates: The application was filed on October 10, 2002, and amended on June 5, 2003.

Applicant's Address: 800 Scudders Mill Rd., Plainsboro, NJ 08536.

American Skandia Life Assurance Corporation Variable Account B (Class 2 Sub-Account) [File No. 811-8248]

Summary: Applicant seeks an order declaring that it has ceased to be an investment company. On November 18, 2002, the assets of American Skandia Life Assurance Corporation Variable Account B (Class 2 Sub-Account) were consolidated into what was formerly American Skandia Life Assurance Corporation Variable Account B (Class 1 Sub-Account) and is now known as American Skandia Life Assurance Corporation Variable Account B (the “Separate Account”). In addition, four other sub-accounts of the Separate Account, (Class 3 Sub-Account, Class 7 Sub-Account, Class 8 Sub-Account, and Class 9 Sub-Account), were consolidated into the Separate Account on November 18, 2002 (the “Consolidation”). Each sub-account had been registered as a distinct unit investment trust under the Investment Company Act of 1940 (“1940 Act”). The Consolidation effectively reorganized six separately-registered 1940 Act entities into a single 1940 Act registrant.

Filing Date: The application was filed on December 6, 2002.

Applicant's Address: American Skandia Life Assurance Corporation, One Corporate Drive, Shelton, CT 06484.

American Skandia Life Assurance Corporation Variable Account B (Class 3 Sub-Account) [File No. 811-8884]

Summary: Applicant seeks an order declaring that it has ceased to be an investment company. On November 18, 2002, the assets of American Skandia Life Assurance Corporation Variable Account B (Class 3 Sub-Account) were consolidated into what was formerly American Skandia Life Assurance Corporation Variable Account B (Class 1 Sub-Account) and is now known as American Skandia Life Assurance Corporation Variable Account B (the “Separate Account”). In addition, four other sub-accounts of the Separate Account, (Class 2 Sub-Account, Class 7 Sub-Account, Class 8 Sub-Account, and Class 9 Sub-Account), were consolidated into the Separate Account on November 18, 2002 (the “Consolidation”). Each sub-account had been registered as a distinct unit investment trust under the Investment Company Act of 1940 (“1940 Act”). The Consolidation effectively reorganized six separately-registered 1940 Act entities into a single 1940 Act registrant.

Filing Date: The application was filed on December 6, 2002.

Applicant's Address: American Skandia Life Assurance Corporation, One Corporate Drive, Shelton, CT 06484.

American Skandia Life Assurance Corporation Variable Account B (Class 7 Sub-Account) [File No. 811-09705]

Summary: Applicant seeks an order declaring that it has ceased to be an investment company. On November 18, 2002, the assets of American Skandia Life Assurance Corporation Variable Account B (Class 7 Sub-Account) were consolidated into what was formerly American Skandia Life Assurance Corporation Variable Account B (Class 1 Sub-Account) and is now known as American Skandia Life Assurance Corporation Variable Account B (the “Separate Account”). In addition, four other sub-accounts of the Separate Account, (Class 2 Sub-Account, Class 3 Sub-Account, Class 8 Sub-Account, and Class 9 Sub-Account), were consolidated into the Separate Account on November 18, 2002 (the “Consolidation”). Each sub-account had been registered as a distinct unit investment trust under the Investment Company Act of 1940 (“1940 Act”). The Consolidation effectively reorganized six separately-registered 1940 Act entities into a single 1940 Act registrant.

Filing Date: The application was filed on December 6, 2002.

Applicant's Address: American Skandia Life Assurance Corporation, One Corporate Drive, Shelton, CT 06484.

American Skandia Life Assurance Corporation Variable Account B (Class 9 Sub-Account) [File No. 811-09989]

Summary: Applicant seeks an order declaring that it has ceased to be an investment company. On November 18, 2002, the assets of American Skandia Life Assurance Corporation Variable Account B (Class 9 Sub-Account) were consolidated into what was formerly American Skandia Life Assurance Corporation Variable Account B (Class 1 Sub-Account) and is now known as American Skandia Life Assurance Corporation Variable Account B (the “Separate Account”). In addition, four other sub-accounts of the Separate Account, (Class 2 Sub-Account, Class 3 Sub-Account, Class 7 Sub-Account, and Class 8 Sub-Account), were consolidated into the Separate Account on November 18, 2002 (the “Consolidation”). Each sub-account had been registered as a distinct unit investment trust under the Investment Company Act of 1940 (“1940 Act”). The Consolidation effectively reorganized six separately-registered 1940 Act entities into a single 1940 Act registrant.

Filing Date: The application was filed on December 6, 2002.

Applicant's Address: American Skandia Life Assurance Corporation, One Corporate Drive, Shelton, CT 06484.

American Skandia Life Assurance Corporation Variable Account B (Class 8 Sub-Account) [File No. 811-09705]

Summary: Applicant seeks an order declaring that it has ceased to be an investment company. On November 18, 2002, the assets of American Skandia Life Assurance Corporation Variable Account B (Class 8 Sub-Account) were consolidated into what was formerly American Skandia Life Assurance Corporation Variable Account B (Class 1 Sub-Account) and is now known as American Skandia Life Assurance Corporation Variable Account B (the “Separate Account”). In addition, four other sub-accounts of the Separate Account, (Class 2 Sub-Account, Class 3 Sub-Account, Class 7 Sub-Account, and Class 9 Sub-Account), were consolidated into the Separate Account on November 18, 2002 (the “Consolidation”). Each sub-account had been registered as a distinct unit investment trust under the Investment Company Act of 1940 (“1940 Act”). The Consolidation effectively reorganized six separately-registered 1940 Act entities into a single 1940 Act registrant.

Filing Date: The application was filed on December 6, 2002.

Applicant's Address: American Skandia Life Assurance Corporation, One Corporate Drive, Shelton, CT 06484.

For the Commission, by the Division of Investment Management, pursuant to delegated authority.
Margaret H. McFarland,
Deputy Secretary.

[FR Doc. 03-17053 Filed 7-3-03; 8:45 am]

BILLING CODE 8010-01-P